DEPARTMENT OF TRANSPORTATION

Office of the Secretary

Notice of Applications for Certificates of Public Convenience and Necessity and Foreign Air Carrier Permits Filed Under Subpart B (formerly Subpart Q) During the Week Ending June 25, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0118.

Date Filed: June 22, 2011.

Due Date for Answers, Conforming Applications, or Motion to Modify Scope:

July 13, 2011.

Description: Application of Corsair S.A., d/b/a/Corsairfly (“Corsairfly”) requesting an amended foreign air carrier permit authorizing Corsairfly to conduct operations to and from the United States to the full extent authorized by the United States-European Union Air Transport Agreement (“U.S.-E.U. Agreement”), including authority to engage in: (i) Scheduled and charter foreign air transportation of persons, property and mail from any point(s) behind any Member State(s) of the European Community, via any point(s) in any Member State(s) and via intermediate points to any point(s) in the United States and beyond; (ii) scheduled and charter foreign air transportation of persons, property and mail between any point(s) in the United States and any point(s) in any member of the European Common Aviation Area; (iii) other charters pursuant to the prior approval requirements; and (iv) transportation authorized by any additional route or other right(s) made available to European Community carriers in the future.

Renee V. Wright,
Program Manager, Docket Operations, Federal Register Liaison.

[FR Doc. 2011-18119 Filed 7-18-11; 8:45 am]

BILLING CODE 4910-9X-P